DEPARTMENT OF THE INTERIOR

National Park Service

[N6653; NPS-WASO-NAGPRA-NPS0041390; PPWOCRADN0-PCU00RP14.R50000]

Notice of Inventory Completion: Mississippi Department of Archives and History, Jackson, MS

AGENCY: National Park Service, Interior.

ACTION: Notice.

SUMMARY: In accordance with the Native American Graves Protection and Repatriation Act (NAGPRA), the Mississippi Department of Archives and History (MDAH) has completed an inventory of human remains and associated funerary objects and has determined that there is a cultural affiliation between the human remains and associated funerary objects and Indian Tribes or Native Hawaiian organizations in this notice.

DATES: Repatriation of the human remains and associated funerary objects in this notice may occur on or after January 16, 2026.

ADDRESSES: Send written requests for repatriation of the human remains and associated funerary objects in this notice to Jaquelin Padilla, Mississippi Department of Archives and History, 100 South State Street, P.O. Box 571, Jackson, MS 39205, email jpadilla@mdah.ms.gov.

SUPPLEMENTARY INFORMATION: This notice is published as part of the National Park Service's administrative responsibilities under NAGPRA. The determinations in this notice are the sole responsibility of the Mississippi Department of Archives and History, and additional information on the determinations in this notice, including the results of consultation, can be found in its inventory or related records. The National Park Service is not responsible for the determinations in this notice.

Abstract of Information Available

Based on the information available, in 2018 human remains from 22TU518 (Flowers #3) and 22TU519 (Norflett Mound) were listed in a Notice of Inventory Completion, published in the Federal Register on 4/13/18 (FR 2018-07699). Additional human remains and associated funerary objects from 22TU518 (Flowers #3) and 22TU519 (Norflett Mounds) were listed on a Notice of Inventory Completion, published on 1/22/21 (FR 2021-01340). These human remains and associated funerary objects were repatriated to the Chickasaw Nation. In 2021, human remains and associated funerary objects from 22TU513 (Beaverdam) and 22TU534 (Martin #2) were listed in a Notice of Inventory Completion, published in the Federal Register on 9/20/21 (FR 2021-20264), and were repatriated to the Chickasaw Nation. The current notice includes additional human remains and associated funerary objects not included in the previous repatriations by the Mississippi Department of Archives and History.

Human remains representing, at least, one individual has been identified from 22TU518 (Flowers #3). The seven lots of associated funerary objects consist of one lot matrix, one lot finescreen, one lot organic materials, one lot clay, one lot faunal remains, one lot lithics, and one lot Native American ceramics. The human remains and objects were removed during a salvage excavation by MDAH in 1974.

Human remains representing, at least, one individual has been identified from 22TU534 (Martin #2). The four lots of associated funerary objects are one lot lithics, one lot Native American ceramics, one lot faunal remains, and one lot ochre. The human remains and objects were likely removed during an excavation by MDAH in 1969 with additional collections from excavations in 1996 and from an unknown year.

No human remains are present, the remaining lot from 22TU519 (Norflett Mounds) is one lot consisting of Native American ceramic (reconstructed vessel). The vessel was removed from the site by MDAH personnel in 1969.

No human remains, are present, the remaining lots from 22TU513 (Beaverdam) are seven lots consisting of one lot lithics, one lot Native American ceramics, one lot clay, one lot faunal remains, one lot shell, one lot organic materials, and one lot matrix. Some of the collection may have been removed by MDAH personnel in 1971. Another collection was removed in 2010 however the history of the collection is unknown. An additional collection was removed as part of the Mississippi Mound Trail in 2013.

Human remains representing, at least, one individual has been identified from 22TU536 (Martin #3). The three lots of associated funerary objects are one lot Native American ceramics, one lot clay, and one lot lithics. These human remains and objects were collected by MDAH personnel in 1968, likely as part of a surface collection.

Human remains representing, at least, three individuals have been identified from 22QU500 (Posey Mound). The six lots of associated funerary objects are one faunal remains, one lot shell, one lot lithics, one lot Native American ceramics, one lot clay, and one lot of fine screen samples. 22QU500 was excavated in 1986 as part of a salvage excavation. Most of this excavation took place around Mound B. There was also a collection donated to the C.H. Nash Museum at Chucalissa in 1983 by private collector H. Osborn in 1983. These collection was later transferred to MDAH from the Desoto County Museum in 2012.

Human remains representing, at least, one individual has been identified from 22QU511 (Whiting). The seven lots of associated funerary objects are one lot faunal remains, one lot Native American ceramics, one lot clay, one lot organic materials, one lot shell, one lot of fine screen sample, and one lot lithics. It is unknown what year the lots of AFO were collected from 22QU511, but these were collected through surface and pit excavations. Part of the human remains were removed from the site prior to 1970 and was returned to MDAH in 2017.

Human remains representing, at least, eight individuals have been identified from 22QU516 (Garmon/Sabino). The six lots of associated funerary objects are one lot shell, one lot clay, one lot Native American ceramics, one lot faunal remains, one lot lithics, and one lot matrix. The site 22QU516 has a general surface collection with an unknown history. Also, a collection donated to MDAH by Burt Jaeger at an unknown date and with an unknown history.

Human remains representing, at least, three individuals have been identified from 22QU518 (Norman). The 11 lots of associated funerary objects are one lot Native American ceramics, one lot beads, one lot pendants, one lot gorgets, one lot lithics, one lot faunal remains, one lot clay, one lot shell, one lot fine screen, one lot ochre, and one lot organic materials. The site 22QU518 has been collected by several different individuals and groups over an unknown period of years. MDAH has a collection from a 1981 survey conducted by the institution. A collection from Ruth Cheirs was donated to MDAH by Dr. Burnham in 2003. Dr. Burnham also had his own personal collection from the site that was collected in the late 1970s and early 1980s that was donated to MDAH. Burt Jaegar also collected artifacts from the site in the 1980s which were donated to MDAH. Other individuals donated their collections from this site with most lacking provenience information. These individual collectors include Tom Davis, Ralph Baltzer, June Williams, Jas Mims; L.B. Jones, Larson, J.C. Mullins, C. Taylor, Robert Stancill, Billy Henderson, and Fair Hays Jr. An unprovenienced collection from the Museum of the Mississippi Delta was transferred to MDAH in 2015. Lastly, there is also a collection from a surface survey conducted by the Mississippi Department of Transportation (MDOT) personnel in the 1970s or 1980s. This collection was transferred from MDOT to MDAH in 2025.

Human remains representing, at least, three individuals have been identified from 22QU523 (Longstreet). The eight lots of associated funerary objects are one lot Native American ceramics, one lot lithics, one lot matrix, one lot clay, one lot faunal remains, one lot shell, one lot organic material, and one lot ochre. The site 22QU523 was excavated twice by MDAH as a survey in 1972 and a salvage excavation in 1975. Most of the human remains were excavated as part of these two excavations. Objects were also taken from this site by collectors R. Baltzer, Dr. Burnham and Robert Stancill at unknown dates. MDAH also has a surface collection conducted by University of Memphis in 1972 that was donated to the C.H. Nash Museum at Chucalissa and transferred to MDAH in 2019 by way of the Desoto County Museum.

In 2021, human remains and AFO from 22QU525 (Shady Grove) were listed in a Notice of Inventory Completion, published in the Federal Register on 1/22/2021 (FR 2021-01340). These human remains and associated funerary objects were repatriated to the Chickasaw Nation. The current notice includes additional human remains and associated funerary objects not included in the previous repatriations by the Mississippi Department of Archives and History. Human remains representing, at least, 16 individuals have been identified at 22QU525 (Shady Grove). The 11 lots of associated funerary objects are one lot Native American ceramics, one lot faunal remains, one lot lithics, one lot fine screen, one lot shell, one lot clay, one lot soil sample, one lot organic materials, one lot matrix, one lot ochre, and one lot ceramic effigy. Some of the objects came from a 1972 surface collection. In 1975, MDAH personnel excavated test pits and a burial on a level mound at 22QU525. The human remains from a bundle burial and associated funerary objects from this excavation were curated at MDAH. Between 2007 through 2010, the University of Southern Mississippi and MDAH personnel returned to 22QU525 and performed a surface collection and excavation and located additional burials. The human remains from the burial and associated funerary objects from this excavation were curated at MDAH. A collection was donated by J. Buster at an unknown date with an unknown history. A surface collection by Memphis State University and from a private collector H. Osborn was transferred to the Desoto County Museum in 2013 and 2015 and then to MDAH in 2019.

Human remains representing, at least, one individual has been identified from 22QU568 (Opossum Bend). The six lots of associated funerary objects are one lot shell, one lot faunal remains, one lot clay, one lot lithics, one lot ochre and one lot Native American ceramics. 22QU568 consists of a surface collection.

Human remains representing, at least, six individuals have been identified from 22QU569 (Drew Smith). The six lots of associated funerary objects are one lot Native American ceramics, one lot lithics, one lot faunal remains, one lot shell, one lot bead, and one lot clay. The majority of 22QU569 comes from a collection with an unknown history. Additional unprovenienced collections were donated to MDAH by two collectors Burt Jaeger in 2009 and Dr. Burnham.

Through Tribal consultation, these 44 individuals and 83 lots of associated funerary objects were identified as culturally affiliated with the Chickasaw Nation. To our knowledge, no potentially hazardous substances were used to treat any of the human remains or associated funerary objects.

Cultural Affiliation

Based on the information available and the results of consultation, cultural affiliation is clearly identified by the information available about the human remains and associated funerary objects described in this notice.

Determinations

The Mississippi Department of Archives and History has determined that:

• The human remains described in this notice represent the physical remains of 44 individuals of Native American ancestry.

• The 83 lots of objects described in this notice are reasonably believed to have been placed intentionally with or near individual human remains at the time of death or later as part of the death rite or ceremony.

• There is a connection between the human remains and associated funerary objects described in this notice and The Chickasaw Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 16, 2026. If competing requests for repatriation are received, the Mississippi Department of Archives and History must determine the most appropriate requestor prior to repatriation. Requests for joint repatriation of the human remains and associated funerary objects are considered a single request and not competing requests. The Mississippi Department of Archives and History is responsible for sending a copy of this notice to the Indian Tribes and Native Hawaiian organizations identified in this notice and any other consulting parties.

Authority: Native American Graves Protection and Repatriation Act, 25 U.S.C. 3003, and the implementing regulations, 43 CFR 10.10.

Dated: November 21, 2025.
Melanie O'Brien,
Manager, National NAGPRA Program.

[FR Doc. 2025-22998 Filed 12-16-25; 8:45 am]

BILLING CODE 4312-52-P